DEPARTMENT OF STATE

[Public Notice 3358]

Bureau of Educational and Cultural Affairs; Program Title: Near East and North Africa Democracy Initiative

NOTICE: Request for Proposals.

SUMMARY: The Office of Citizen Exchanges of the Bureau of Educational and Cultural Affairs of the United States Department of State announces an open competition for grants under the Near East and North Africa Democracy Initiative. U.S. public and private non-profit organizations meeting the provisions described in IRS regulation 26 CFR 1.501(c) may submit proposals to develop and implement exchange programs involving participants from Tunisia. Two grant awards are anticipated, as outlined below.

PROGRAM INFORMATION

Overview

The Office of Citizen Exchanges of the Bureau of Educational and Cultural Affairs, U.S. Department of State, consults with and supports American public and private nonprofit organizations in developing and implementing multi-phased, often multi-year, exchanges of professionals, academics, youth leaders, public policy advocates, etc. These exchanges address issues crucial to both the United States and the foreign countries involved, they represent focused, substantive, and cooperative interaction among counterparts, and they entail both theoretical and experiential learning for all participants. A primary goal is the development of sustained, international, institutional and individual linkages. In addition to providing a context for professional development and collaborative, international problem-solving, these projects are intended to introduce Foreign participants and their American counterparts to one another's political, social, and economic structures. Desirable components of an exchange may be local citizen involvement and activities that orient foreign participants to American society and culture.

The Near East and North African Democracy Initiative is based on the premise that people-to-people exchanges that focus on enhancing human capacity and on encouraging and strengthening democratic initiatives nurture the social, political, and economic development of society. In response to the aspirations of this program, the Office of Citizen Exchanges solicits proposals for two exchange projects that respond to the project foci and guidelines suggested below.

1. Citizen Participation and Advocacy: Building and Strengthening Non-governmental Organizations.

Social and political activism, encouraged, focused, and channeled through non-governmental organizations, is a basic underpinning of democratic society. Strengthening NGO advocacy skills, management, grassroots support, recruitment and motivation of volunteers, fundraising and financial management, media relations, and networking for mutual support and reinforcement encourages democratic development. Among other emphases, this project should focus on computer training and on developing cooperation between educators and NGO's for community action. Participants in this exchange should be leaders and potential leaders (social activists; public policy advocates; professionals) of NGO's. It is essential that organizations submitting proposals in this category recognize that democratic activism and foreign involvement with local NGO's must be carefully thought out and approached with sensitivity and subtlety. Close consultation with American Mission officers is critical. Grant requests should not exceed $125,000. ECA anticipates awarding one grant under this theme.

2. Developing Leadership for Democratic Institutions.

Political democracy is characterized by the existence of diverse political groupings, representing varying approaches to governing and service, from which an electorate may choose its leadership. Such groupings represent viable governing potential only when, under informed and skilled leadership, they are organized, more or less unified in perspective, able to articulate policy alternatives and to communicate with the electorate, capable of attracting workers and motivating volunteers, and able to raise funds and manage finances. The development of skilled leadership, upon which all other requirements depend, is the goal of this project. Participants should be leaders or potential leaders of nascent political parties in Tunisia. Applicants should focus on democratic orientation, development of the skills necessary for successful organizational management and leadership, and both theoretical and experiential introduction to best practices in party building and strengthening. Grant requests should not exceed $125,000. ECA anticipates awarding one grant under this theme.

Activities for the above projects might include:

1. Initial needs assessment/orientation travel (if necessary) by American organizers to develop contacts and relationships with both American Mission officers and counterpart organizations/individuals in Tunisia

2. A U.S.-based program, including orientation to program purposes and to U.S. society, discussions, site visits, limited shadowing or internship opportunities

3. A return visit by selected American professionals to collaborate with participants in the U.S.-based program in conducting workshops, seminars, on-site training, networking

4. Longer, intensive internship in the U.S. for two or three selected Tunisian participants

The Office of Citizen Exchanges encourages applicants to be creative in planning project implementation. Activities may include both theoretical orientation and experiential, community-based initiatives designed to achieve concrete objectives.

Applicants should, in their proposals, identify any partner organizations and/or individuals in the U.S. with which/whom they are proposing to collaborate and justify on the basis of experience, accomplishments, etc.

Selection of Participants

Successful applications should include a description of an open, merit-based participant selection process. Applicants should anticipate working closely with the Public Affairs Section of U.S. Embassy in Tunis in selecting participants, with the Embassy retaining the right to nominate participants and to advise the grantee regarding participants recommended by other entities.

Public Affairs Section Involvement

The Public Affairs Sections of the U.S. Embassies (PAS) play an important role in project implementation. Posts evaluate project proposals, coordinate planning with the grantee organization and in-country partners, facilitate in-country activities, nominate participants and vet grantee nominations, observe in-country activities, debrief participants, and evaluate project impact. U.S. Missions are responsible for issuing IAP-66 forms in order for foreign participants to obtain the necessary J-1 visas for entry to the United States. They also serve as a link to in-country partners and participants.

Though project administration and implementation are the responsibility the grantee, the grantee is expected to inform the PAS in participating countries of its operations and procedures and to coordinate with and involve PAS officers in the development of project activities. The PAS should be consulted regarding country priorities, political and cultural sensitivities, current security issues, and related logistic and programmatic issues.

Visa Regulations

Foreign participants on programs sponsored by ECA are granted J-1 Exchange Visitor visas by the U.S. Embassy in the sending country. All programs must comply with J-1 visa regulations. Please refer to Solicitation Package for further information.

Budget Guidelines

Applicants must submit a comprehensive line item budget based on guidance provided in the Proposal Submission Instructions (PSI) of the Solicitation Package. Maximum award amounts are cited above. Grants awarded to organizations with less than four years of experience in conducting international exchange programs will not be considered under this competition.

Applicants must submit a comprehensive budget for the entire program. Awards may not exceed the amounts cited in the guidelines above. There must be a summary budget as well as breakdowns reflecting both administrative and program budgets. Applicants may provide separate sub-budgets for each program component, phase, location, or activity to provide clarification. Proposals should present evidence of cost sharing—in cash or in kind—representing approximately 33% or more of the total cost of the exchange project.

Allowable costs include the following:

(1) Direct program expenses

(2) Adminstrative expenses, including indirect costs

Please refer to the Solicitation Package for complete budget guidelines and formatting instructions.

Announcement Title and Number

All correspondence with the Bureau concerning this RFP should reference the above title and number ECA PE/C-00-70.

FOR FURTHER INFORMATION, CONTACT: The Office of Citizen Exchanges, ECA/PE/C, Room 224, U.S. Department of State, 301 4th Street, SW., Washington, DC 20547, attention: Thomas Johnston. Telephone number 202/260-0299 or 202/619-5325; fax number 202/619-4350; Internet address to request a Solicitation Package, tjohnsto@pd.state.gov. The Solicitation Package contains detailed award criteria, required application forms, specific budget instructions, and standard guidelines for proposal preparation. Please specify Bureau Program Officer Thomas Johnston on all inquiries and correspondence.

Please read the complete Federal Register announcement before sending inquiries or submitting proposals. Once the RFP deadline has passed, Bureau staff may not discuss this competition with applicants until the proposal review process has been completed.

To Download a Solicitation Package Via Internet: The entire Solicitation Package may be downloaded from the Bureau's website: http://exchanges.state.gov/education/rfps. Please read all information before downloading.

Deadline for Proposals: All proposal copies must be received at the Bureau of Educational and Cultural Affairs by 5 p.m. Washington, D.C. time on Friday, October 6, 2000. Faxed documents will not be accepted at any time. Documents postmarked the due date but received on a later date will not be accepted. Each applicant must ensure that the proposals are received by the above deadline.

Applicants must follow all instructions in the Solicitation Package. The original and ten copies of the application should be sent to: U.S. Department of State, SA-44, Bureau of Educational and Cultural Affairs, Ref.: ECA/PE/C-00-70, Program Management, ECA/EX/PM, Room 336, 301 4th Street, SW, Washington, DC 20547.

Applicants must also submit the “Executive Summary” and “Proposal Narrative” sections of the proposal on a 3.5” diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Proposals should reflect advancement of this goal in their program contents, to the full extent deemed feasible.

Year 2000 Compliance Requirement (Y2K Requirement)

The Year 2000 (Y2K) issue is a broad operational and accounting problem that could potentially prohibit organizations from processing information in accordance with Federal management and program specific requirements including data exchange with the Bureau. The inability to process information in accordance with Federal requirements could result in grantees' being required to return funds that have not been accounted for properly.

The Bureau therefore requires all organizations use Y2K compliant systems including hardware, software, and firmware. Systems must accurately process data and dates (calculating, comparing and sequencing) both before and after the beginning of the year 2000 and correctly adjust for leap years.

Additional information addressing the Y2K issue may be found at the General Services Administration's Office of Information Technology website: http://www.itpolicy.gsa.gov.

Review Process

The Bureau will acknowledge receipt of all proposals and will review them for technical eligibility. Proposals will be deemed ineligible if they do not fully adhere to the guidelines stated herein and in the Solicitation Package. All eligible proposals will be reviewed by the program office, as well as by the Public Diplomacy section of the U.S. Mission overseas. Eligible proposals will be forwarded to panels of State Department officers for advisory review. Proposals may also be reviewed by the Office of the Legal Adviser or by other Department elements. Final funding decisions are at the discretion of the Department of State's Under Secretary for Public Diplomacy and Public Affairs. Final technical authority for assistance awards (grants or cooperative agreements) resides with the Bureau's Grants Officer.

Review Criteria

Technically eligible applications will be competitively reviewed according to the criteria stated below. These criteria are not rank ordered, and all carry equal weight in the proposal evaluation.

1. Quality of the program idea: Proposals should be substantive, well thought out, focused on issues of demonstrable relevance to all proposed participants, and responsive, in general, to the exchange suggestions and guidelines provided above.

2. Implementation Plan and Ability to Achieve Objectives: A detailed project implementation plan should establish a clear and logical connection between the interest, the expertise, and the logistic capacity of the applicant and the objectives to be achieved. The plan should discuss, in concrete terms, how the institution proposes to achieve the objectives. Institutional resources—including personnel—assigned to the project should be adequate and appropriate to achieve project objectives. The substance of workshops and site visits should be included as an attachment, and the responsibilities of U.S. participants and in-country partners should be clearly described.

3. Institution's Record/Ability: Proposals should include an institutional record of successful exchange programs, with reference to responsible fiscal management and full compliance with reporting requirements. The Bureau will consider the demonstrated potential of new applicants and will evaluate the performance record of prior recipients of Bureau grants as reported by the Bureau grant staff.

4. Follow-on Activities: Proposals should provide a plan for sustained follow-on activity (building on the linkages developed under the grant and the activities initially funded by the grant, after grant funds have been depleted), ensuring that Bureau-supported projects are not isolated events.

5. Project Evaluation/Monitoring: Proposals should include a plan to monitor and evaluate the project's implementation, both as the activities unfold and at the end of the program. Reports should include both accomplishments and problems encountered. A discussion of survey methodology or other disclosure/measurement techniques, plus a description of how outcomes are defined in terms of the project's original objectives, is recommended. Successful applicants will be expected to submit a report after each project component is concluded or semi-annually, whichever is less frequent.

6. Impact: Proposed projects should, through the establishment of substantive, sustainable individual and institutional linkages and encouraging maximum sharing of information and cross-boundary cooperation, enhance mutual understanding among communities and societies.

7. Cost Effectiveness and Cost Sharing: Administrative costs should be kept low. Proposal budgets that provide evidence of cost sharing, comprised of cash or in-kind contributions, representing 33 percent or more of the total cost of the exchange will be given priority consideration. Cost sharing may be derived from diverse sources, including private sector contributions and/or direct institutional support.

8. Support of Diversity: Proposals should demonstrate support for the Bureau's policy on diversity. Features relevant to this policy should be cited in program implementation (selection of participants, program venue, and program evaluation), program content, and program administration.

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice: The terms and conditions published in this RFP are binding and may not be modified by any Bureau representative. Explanatory information provided by the Bureau that contradicts published language will not be binding. Issuance of the RFP does not constitute an award commitment on the part of the Government. The Bureau reserves the right to revise, reduce, or increase proposal budgets in accordance with the needs of the program and the availability of funds. Awards made will be subject to periodic reporting and evaluation requirements.

Notification

Final awards cannot be made until funds have been appropriated by Congress, allocated and committed through internal Bureau procedures.

Dated: June 27, 2000.
Evelyn S. Lieberman,
Under Secretary for Public Diplomacy and Public Affairs, U.S. Department of State.

[FR Doc. 00-17254 Filed 7-12-00; 8:45 am]

BILLING CODE 4710-11-P